DEPARTMENT OF VETERANS AFFAIRS

Notice of Intent To Grant an Exclusive License

AGENCY: Department of Veterans Affairs, Office of Research and Development.

ACTION: Notice of Intent.

SUMMARY: Notice is hereby given that the Department of Veterans Affairs, Office of Research and Development, intends to grant to Perlegen Sciences, Inc., 2021 Stierlin Court, Mountain View, CA 94043 USA an exclusive license to practice the following patent application: U.S. Patent Application Serial No. 11/344,975 filed January 31, 2006 entitled “Genetic Basis of Alzheimer's Disease and Diagnosis and Treatment Thereof.”

DATES: Comments must be received within fifteen (15) days from the date of this published Notice.

ADDRESSES: Send comments to: Amy E. Centanni, Director of Technology Transfer, Department of Veterans Affairs; Office of Research and Development, 810 Vermont Avenue, NW., Washington, DC 20420, Attn: 12TT, Telephone: (202) 254-0199; Facsimile: (202) 254-0460; e-mail: Amy.centanni@va.gov.

FOR FURTHER INFORMATION CONTACT: Copies of the published patent applications may be obtained from the U.S. Patent and Trademark Office at http://www.uspto.gov.

SUPPLEMENTARY INFORMATION: It is in the public interest to so license these inventions as Perlegen Sciences, Inc. submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Dated: June 5, 2007.
Gordon H. Mansfield,
Deputy Secretary of Veterans Affairs.

[FR Doc. E7-11224 Filed 6-8-07; 8:45 am]

BILLING CODE 8320-01-P